DEPARTMENT OF ENERGY

Federal Energy Regulatory Commission

[Docket No. RP00-397-000]

Questar Pipeline Company; Notice of Supplemental Filing

June 12, 2001.

Please take notice that on May 14, 2001, Questar filed supplemental information to Questar Pipeline Company's Order No. 637 compliance filing that was filed with the Commission on July 17, 2001, in the referenced docket. In this supplement, Questar states that it is addressing parties' comments and issues regarding (1) segmentation, (2) park and loan service and (3) cashout provisions.

Any person desiring to protest said filing should file a protest with the Federal Energy Regulatory Commission, 888 First Street, NE., Washington, DC 20426, in accordance with Section 385.211 of the Commission's Rules and Regulations. All such protests must be filed in accordance with Section 154.210 of the Commission's Regulations and are due on or before June 29, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-15241 Filed 6-15-01; 8:45 am]

BILLING CODE 6712-01-M